DEPARTMENT OF VETERANS AFFAIRS

Advisory Committee on Women Veterans; Notice of Meeting

The Department of Veterans Affairs gives notice under Pub. L. 92-463 (Federal Advisory Committee Act) that the Advisory Committee on Women Veterans will conduct site visits to the Carl T. Hayden VA Medical Center (VAMC), 650 East Indian School Road, Phoenix, AZ 85012, and several other VA facilities in the area. The site visits will be held on June 16-20, 2003, from 8 a.m. until 4 p.m., each day and will be open to the public .

The purpose of the Committee is to advise the Secretary of Veterans Affairs regarding the needs of women veterans with respect to health care, rehabilitation, compensation, outreach, and other programs and activities administered by the VA designed to meet such needs. The Committee will make recommendations to the Secretary regarding such programs and activities.

On June 16, the agenda topics for this meeting will include briefings and updates by the key leadership group at the Carl T. Hayden VAMC and the Women Veterans Program Managers in Veterans Integrated Services Network (VISN) 18. Tours of the Carl T. Hayden VAMC, including the ambulatory care clinics, will be conducted. On June 17, briefings and updates by the key leadership group at the Carl T. Hayden VAMC will continue. On June 18, site visits will be made to the VISN 18 facilities and community-based outpatient clinics in Mesa. On June 19, site visits will be made to the National Memorial Cemetery of Arizona and the State Veterans Home. On June 20, an open forum and town hall meeting with the women veterans' community will be held at the Carl T. Hayden VAMC.

Any member of the public wishing to attend should contact Mrs. Desiree W. Long, at the Department of Veterans Affairs, Center for Women Veterans (00W), 810 Vermont Avenue, NW., Washington, DC 20420. Mrs. Long may be contacted either by phone at (202) 273-6193, fax at (202) 273-7093 or e-mail at 00W@mail.va.gov. Interested persons may attend, appear before, or file statements with the Committee. Written statements must be filed before the meeting, or within 10 days after the meeting.

Dated: May 19, 2003.
By Direction of the Secretary,
E. Philip Riggin,
Committee Management Officer.

[FR Doc. 03-13078 Filed 5-23-03; 8:45 am]

BILLING CODE 8320-01-M